SOCIAL SECURITY ADMINISTRATION

[Docket No. SSA 2016-0052]

Privacy Act of 1974; Matching Program (SSA/Office of Child Support Enforcement (OCSE)—Match Number 1074

AGENCY: Social Security Administration (SSA)

ACTION: Notice of a new matching program.

SUMMARY: In accordance with the provisions of the Privacy Act, as amended, this notice announces a new/modified of an existing computer matching program that we are currently conducting with OCSE.

DATES: The deadline to submit comments on the proposed matching program is 30 days from the date of publication of this notice. The matching program will be effective on June 12, 2017 and will expire on June 11, 2017.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or email at Mary.Ann.Zimmerman@ssa.gov. All comments received will be available for public inspection at this address.

FOR FURTHER INFORMATION CONTACT: Interested parties may submit general questions about the matching program to Mary Ann Zimmerman, Acting Executive Director, Office of Privacy and Disclosure, Office of the General Counsel, by any of the means shown above.

SUPPLEMENTARY INFORMATION: The Computer Matching and Privacy Protection Act of 1988 (Public Law (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

We have taken action to ensure that all of our computer matching programs comply with the requirements of the Privacy Act, as amended.

Mary Ann Zimmerman,
Acting Executive Director, Office of Privacy and Disclosure, Office of the General Counsel.

PARTICIPATING AGENCIES:

SSA and OCSE

AUTHORITY FOR CONDUCTING THE MATCHING PROGRAM:

The legal authority for disclosures under this agreement are the Social Security Act (Act) and the Privacy Act of 1974, as amended. Section 453(j)(4) of the Act provides that OCSE shall provide the Commissioner of Social Security with all the information in the NDNH. 42 U.S.C. 653(j)(4). SSA has authority to use data to determine entitlement and eligibility for programs it administers pursuant to 453(J)(4), 1631(e)(1)(B) and (f), and 1148(d)(1) of the Act. 42 U.S.C. 653(j)(4), 1320b-19(d)(1), and 1383(e)(1)(B) and (F). Disclosures under this agreement shall be made in accordance with 5 U.S.C. 552a(b)(3), and in compliance with the matching procedures in 5 U.S.C. 552a(o), (p), and (r).

The Commissioner of Social Security is required to verify eligibility of a recipient or applicant for SSI using independent or collateral sources. SSI benefits may not be determined solely based on declarations by the applicant concerning eligibility factors or other relevant facts. Information is also obtained, as necessary, in order to assure that SSI benefits are only provided to eligible individuals (or eligible spouses) and that the amounts of such benefits are correct. Section 1631(e)(1)(B) of the Act (42 U.S.C. 1383(e)(1)(B)).

Subsection 1631(f) of the Act (42 U.S.C. 1383(f)) provides that “the head of any federal agency shall provide such information as the Commissioner of Social Security needs for purposes of determining eligibility for or amount of benefits, or verifying information with respect thereto.”

Section 1148(d)(1) of the Act (42 U.S.C. 1320b-19(d)(1)) requires SSA to verify earnings of beneficiaries/recipients to ensure accurate payments to employer network providers under the Ticket-to-Work program.

PURPOSE(S):

The purpose of this matching program is to govern the following information exchange operations between OCSE and us from the National Directory of New Hires (NDNH): online query access for Supplemental Security Income (SSI), Disability Insurance (DI), and Ticket-to-Work and Self-Sufficiency (Ticket) programs, and SSI Quarterly Wage batch match. This agreement also governs the use, treatment, and safeguarding of the information exchanged. The agreement assists us (1) in establishing or verifying eligibility or payment amounts, or both under the SSI program; (2) in establishing or verifying eligibility or continuing entitlement under the DI program; (3) in administering the Ticket programs. These activities include overpayment avoidance and recovery for all three programs.

CATEGORIES OF INDIVIDUALS:

The individuals whose information is involved in this matching program are those individuals that are receiving benefits under the SSI, DI, and Ticket programs and individuals who are new hires, earning quarterly wages, or receiving unemployment insurance.

CATEGORIES OF RECORDS:

Our Systems of Records (SOR) are the Supplemental Security Income Record and Special Veterans Benefits (SSR/SVB), SSA/OASSIS, 60-0103 published January 11, 2006 at 71 FR 1830, and amended at 72 FR 69723 (December 10, 2007); and the Completed Determination Record-Continuing Disability Determination file (CDR-CDD), SSA/OD, 60-0050, published January 11, 2006 at 71 FR 1813, and amended at 72 FR 69723 (December 10, 2007).

OCSE will match our information in the SSR and CDR-CDD against the new hire, quarterly wage, and unemployment insurance information furnished by state and federal agencies maintained in its SOR “OCSE National Directory of New Hires” (NDNH), No. 09-80-0381, established by publication in the FR on April 2, 2015 at 80 FR 17906. Routine use (9) of the SOR authorizes disclosure of NDNH information to SSA, 80 FR 17906, 17907 (April 2, 2015).

We will access the OCSE web service when making online queries for new hire, quarterly wage, and unemployment insurance information in the NDNH. To comply with limitations on disclosure and to prohibit browsing, our access is restricted by anti-browsing technology (permission modules) to only those Social Security numbers (SSN) that have a direct business relationship with SSI, DI, or Ticket programs (that is, the record must have a valid SSI, DI, or Ticket payment or application issue). If no business relationship exists with us, OCSE denies access to NDNH and the user is unable to proceed. If a business relationship exists with us, we can access the NDNH via the OCSE web service to display SSN-specific new hire, quarterly wage, or unemployment insurance information in the NDNH. The Master File Query Menu (MFQM) or eView extracts information from our SSR (for SSI recipients) or CDR-CDD (for ticket holders and disability beneficiaries) to facilitate query access.

Under the Quarterly Batch Match (SSI). Our finder file is matched against the quarterly wage and unemployment insurance information in OCSE's NDNH.

We will provide electronically to OCSE the following data elements in the finder file: Individual's SSN and Name.

OCSE will provide electronically to us the following data elements from the NDNH in the quarterly wage file: Quarterly wage record identifier; transmitter agency code; transmitter state code; and state or agency name; employee information: Name (first, middle, last), SSN, verification request code, processed date, non-verifiable indicator, wage amount, and reporting period; and information about employers of individuals in the quarterly wage file: Name, employer identification number, and address(es).

OCSE will provide electronically to us the following data elements from the NDNH in the unemployment insurance file: Unemployment insurance record identifier; processed date; SSN; verification request code; name (first, middle, last); address; unemployment insurance benefit amount; reporting period; transmitter agency code; transmitter state code; and state or agency name.

Under the Online Query Access (SSI, DI, and Ticket programs), we will access OCSE's web service when making online requests for NDNH records. We will provide OCSE the individual's SSN to initiate a query in SSA's Permission Module. Individual's SSN. OCSE will provide us online query access to the following data elements on quarterly wage screen: Quarterly wage record identifier; date report processed; name/SSN verified; employee information: SSN, name (first, middle, last), wage amount, and reporting period; employer information: Name, employer identification number, employer FIPS code (if present), and address(es).

OCSE will provide us online query access to the following data elements on the new hire screen: New hire record identifier; name/SSN verified; date report processed; employee information: SSN, name (first, middle, last), and date of hire; employer information: Name, employer identification number, employer FIPS code (if present), and address(es).

OCSE will provide us online query access to the following data elements on the unemployment insurance screen: Unemployment insurance record identifier; name/SSN verified; SSN; name (first, middle, last); address; unemployment insurance benefit amount; reporting period; payer state; and date report processed.

SYSTEM(S) OF RECORDS:

OCSE and SSA published notice of the relevant SORs in the FR SSA's SORs are the Supplemental Security Income Record and Special Veterans Benefits (SSR/SVB), SSA/OASSIS, 60-0103 published January 11, 2006 at 71 FR 1830, and amended at 72 FR 69723 (December 10, 2007); and the Completed Determination Record-Continuing Disability Determination file (CDR-CDD), SSA/OD, 60-0050, published January 11, 2006 at 71 FR 1813, and amended at 72 FR 69723 (December 10, 2007).

OCSE will match SSA information in the SSR and CDR-CDD against the new hire, quarterly wage, and unemployment insurance information furnished by state and federal agencies maintained in its SOR “OCSE National Directory of New Hires” (NDNH), No. 09-80-0381, established by publication in the FR on April 2, 2015 at 80 FR 17906. The disclosure of NDNH information by OCSE to SSA constitutes a “routine use,” as defined by the Privacy Act. 5 U.S.C. 552a(b)(3). Routine use (9) of the SOR authorizes disclosure of NDNH information to SSA, 80 FR 17906, 17907 (April 2, 2015).

SSA will access the OCSE web service when making online queries for new hire, quarterly wage, and unemployment insurance information in the NDNH. To comply with limitations on disclosure and to prohibit browsing, SSA access is restricted by anti-browsing technology (permission modules) to only those Social Security numbers (SSN) that have a direct business relationship with SSI, DI, or Ticket programs (that is, the record must have a valid SSI, DI, or Ticket payment or application issue). If no business relationship exists with SSA, OCSE denies access to NDNH and the user is unable to proceed. If a business relationship exists with SSA, SSA can access the NDNH via the OCSE web service to display SSN-specific new hire, quarterly wage, or unemployment insurance information in the NDNH. The MFQM or eView extracts information from SSA's SSR (for SSI recipients) or CDR-CDD (for ticket holders and disability beneficiaries) to facilitate query access.

[FR Doc. 2017-09603 Filed 5-11-17; 8:45 am]

BILLING CODE 4191-02-P